DEPARTMENT OF THE INTERIOR

Bureau of Land Management

[CO-120-1220-PA]

Announcement of Public Scoping Meetings To Develop a Travel Management Plan for Public Lands Managed by the Bureau of Land Management, Kremmling Field Office in Colorado

AGENCY: Bureau of Land Management (BLM) Kremmling Field Office, Department of Interior.

ACTION: Notice of intent to conduct public scoping and prepare an environmental analysis (EA) to develop the travel management plan.

SUMMARY: In accordance with the National Environmental Policy Act, notice is hereby given that the Bureau of Land Management (BLM) is preparing an Environmental Analysis to address management of roads and trails on lands administered by the Kremmling Field Office in Colorado.

DATES: Written comments will be accepted until May 30, 2001. The following public scoping meetings are scheduled:

April 25: Kremmling—BLM Field Office—7 pm to 9 pm

April 26: Walden—Wattenburg Center—7 pm to 9 pm

ADDRESSES: Comments should be sent to the Kremmling Field Office, Bureau of Land Management, Colorado State Office, P.O. Box 68 Kremmling, Colorado, 80459.

SUPPLEMENTAL INFORMATION: The use of OHVs, snowmobiles, mountain bikes and horses, an important use of the public lands, has risen tremendously in recent years creating numerous management concerns:

• The capability of the land to sustain increasing use and still meet land health standards.

• The proliferation of new, unplanned roads and trails in many areas that have or will lead to unacceptable resource damage.

• Advances in technology that allow greater ability to access previously inaccessible locations.

• Existing land use designations that allow cross-country vehicle travel on BLM-administered land within the Kremmling Field Office.

• Designated road and trail land use designations have not been implemented.

These concerns, along with those identified by the public and listed in BLM guidance will be considered in the EA. The BLM critical elements of the human environment include: air quality; areas of critical environmental concern; cultural resources; prime farmland; flood plains; Native American religious concerns; threatened and endangered species; hazardous and solid wastes; water quality; wetlands; wild and scenic rivers; and wilderness.

The public is asked to identify issues they believe should be assessed in the EA and provide ideas and suggestions on alternatives to the proposed action they think should be considered. The EA scoping meetings will provide one such opportunity to provide issues and alternatives.

FOR FURTHER INFORMATION CONTACT: John Arkins, Outdoor Recreation Planner, Kremmling Field Office (970) 724-3437.

Dated: March 21, 2001.
Dave Harr,
Field Manager.

[FR Doc. 01-8965 Filed 4-10-01; 8:45 am]

BILLING CODE 4310-JB-P